SECURITIES AND EXCHANGE COMMISSION

[Release No. 34-67720; File No. SR-NYSEArca-2012-89]

Self-Regulatory Organizations; NYSE Arca, Inc.; Notice of Filing and Immediate Effectiveness of Proposed Rule Change Proposing To Offer Certain Proprietary Options Data Products

August 23, 2012.

Correction

In notice document 2012-21386, appearing on pages 52769-52771 in the issue of Thursday, August 30, 2012, make the following correction:

On page 52769, in the second column, the Release No. and File No., which were inadvertently omitted from the document heading, are added to read as set forth above.

[FR Doc. C1-2012-21386 Filed 9-12-12; 8:45 am]

BILLING CODE 1505-01-D